COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes a product and services from the Procurement List previously furnished by nonprofit agencies employing persons who are blind or have other severe disabilities.

DATES: Effective November 27, 2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Deletions

On 9/16/2016 (81 FR 63744-63745) and 9/23/2016 (81 FR 65629-65630), the Committee for Purchase From People Who Are Blind or Severely Disabled published notices of proposed deletions from the Procurement List.

After consideration of the relevant matter presented, the Committee has determined that the product and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product and services to the Government.

3. There are no known regulatory alternatives which would accomplish the objectives of the Javits-Wagner-O'Day Act (41 U.S.C. 8501-8506) in connection with the product and services deleted from the Procurement List.

End of Certification

Accordingly, the following product and services are deleted from the Procurement List:

Product

NSN(s)—Product Name(s): 8030-01-347-0979—Compound, Corrosion Preventative, Type I, Class I

Mandatory Source(s) of Supply: The Lighthouse for the Blind, St. Louis, MO

Contracting Activity: General Services Administration, Kansas City, MO

Services

Service Type: Temp. Admin/General Support Service

Mandatory for: National Institute of Health, 31 Center Dr., Bethesda, MD

Mandatory Source(s) of Supply: Columbia Lighthouse for the Blind, Washington, DC

Contracting Activity: Dept of Health and Human Services

Service Type: Medical Transcription

Mandatory for:

Corpus Christi Naval Air Station: Naval Hospital, 10651 E Street, Bldg H-100, Corpus Christi, TX

U.S. Naval Hospital, 3600 Rivers Ave., North Charleston, SC

Mandatory Source(s) of Supply: Lighthouse for the Blind of Houston, Houston, TX

Contracting Activity: DOD/Department of the Navy

Service Type: Custodial Service

Mandatory for: Department of Veterans Affairs, Quad Cities Veterans Center, 1529 46th Avenue, Moline, IL

Mandatory Source(s) of Supply: The Arc of the Quad Cities Area, Rock Island, IL

Contracting Activity: Dept of Veterans Affairs, 438-Sioux Falls VA Medical Center

Service Type: Administrative/General Support Service

Mandatory for: GSA, Southwest Supply Center, Fort Worth, TX

Mandatory Source(s) of Supply:

Lighthouse for the Blind of Houston, Houston, TX

West Texas Lighthouse for the Blind, San Angelo, TX

South Texas Lighthouse for the Blind, Corpus Christi, TX

The Arkansas Lighthouse for the Blind, Little Rock, AR

Contracting Activity: General Services Administration, Ft Worth, TX

Barry S. Lineback,
Director, Business Operations.

[FR Doc. 2016-26078 Filed 10-27-16; 8:45 am]

BILLING CODE 6353-01-P